FARM CREDIT ADMINISTRATION

12 CFR Part 600

RIN 3052-AD07

Organization and Functions; Field Office Locations

AGENCY: Farm Credit Administration.

ACTION: Notice of effective date.

SUMMARY: The Farm Credit Administration (FCA, we, Agency or our) amended our regulations to change the address for a field office as a result of a recent office relocation. In accordance with the law, the effective date of the rule is no earlier than 30 days from the date of publication in the Federal Register during which either or both Houses of Congress are in session.

DATES: Effective Date: Under the authority of 12 U.S.C. 2252, the regulation amending 12 CFR part 600 published on July 14, 2015 (80 FR 40896) is effective October 6, 2015.

FOR FURTHER INFORMATION CONTACT: Michael T. Wilson, Policy Analyst, Office of Regulatory Policy, Farm Credit Administration, McLean, VA 22102-5090, (703) 883-4124, TTY (703) 883-4056, or Jane Virga, Senior Counsel, Office of General Counsel, Farm Credit Administration, McLean, VA 22102-5090, (703) 883-4071, TTY (703) 883-4056.

SUPPLEMENTARY INFORMATION: The Farm Credit Administration amended our regulations to change the address for a field office as a result of a recent office relocation. In accordance with 12 U.S.C. 2252, the effective date of the final rule is no earlier than 30 days from the date of publication in the Federal Register during which either or both Houses of Congress are in session. Based on the records of the sessions of Congress, the effective date of the regulations is October 6, 2015.

(12 U.S.C. 2252(a)(9) and (10))

Dated: September 30, 2015.
Dale L. Aultman,
Secretary, Farm Credit Administration Board.

[FR Doc. 2015-25294 Filed 10-5-15; 8:45 am]

BILLING CODE 6705-01-P